DEPARTMENT OF ENERGY

Federal Energy Regulatory Commission

[Docket No. ER11-2936-000]

West Deptford Energy, LLC; Notice of Shortened Comment Period on Request for Special Procedures

[February 23, 2011]

On February 22, 2011, West Deptford Energy, LLC (WDE) filed a request for Commission determination that its unit-specific minimum capacity Sell Offer, which WDE proposes to offer into the May 2, 2011 Base Residual Auction in PJM Interconnection LLC's Reliability Pricing Model capacity market, is justified pursuant to PJM's Minimum Offer Price Rule. WDE requests that the Commission develop procedures for the protection of confidential bid-related information in the above-referenced proceeding. WDE also seeks a shortened comment period for its filing in order to expedite the Commission's consideration of its request for determination. In addition, WDE requests a separate, short notice period until March 1, 2011, for interested parties to file comments solely on the portion of WDE's filing requesting protection of confidential bid-related information and for special procedures.

By this notice, the date for filing interventions on the entire filing, as well as protests and comments on the portion of WDE's filing requesting protection of confidential bid-related information and for special procedures, is shortened to and includes March 4, 2011. Additional procedures for commenting on WDE's request for a Commission determination that WDE's Sell Offer is justified will be established at a later date.

Kimberly D. Bose,
Secretary.

[FR Doc. 2011-5428 Filed 3-9-11; 8:45 am]

BILLING CODE P